DEPARTMENT OF THE INTERIOR

Bureau of Land Management

[NM-080-1430-ET; Serial No. NMNM-109118]

Notice of Proposed Withdrawal and Opportunity for Public Meeting; New Mexico

AGENCY: Bureau of Land Management (BLM), Interior.

ACTION: Notice of proposed withdrawal and opportunity for public meeting; New Mexico.

SUMMARY: The United States Department of Treasury for the Federal Law Enforcement Training Center (FLETC), has filed an application to withdraw and transfer jurisdiction of 1280.54 acres of surface and minerals and 640.26 acres of mineral estate underlying FLETC private surface from mining and mineral leasing for a period of 20 years. This notice closes the public lands for up to two years from all forms of appropriation under the public land laws, including location under the United States mining laws, to allow for continued firearms training and safety from bullets within the safety fan. The land will remain open to mineral leasing.

DATES: Comments must be received by July 16, 2003.

ADDRESSES: Comments or requests should be sent to the New Mexico State Director, BLM, P.O. Box 27115, Santa Fe, NM 87502-7115.

FOR FURTHER INFORMATION CONTACT: John Bruin, BLM New Mexico State Office, P.O. Box 27115, Santa Fe, New Mexico 87502, 505-438-7419.

SUPPLEMENTARY INFORMATION: On December 17, 2002, the United States Department of Treasury filed an application to withdraw the following described lands from public land laws, including the United States mining laws, subject to valid existing rights. The purpose of this withdrawal is to facilitate a multipurpose firearms training range and safety fan.

Federal Land and Mineral Estate

New Mexico Principal Meridian

T.16 S., R. 25 E.,

sec. 27, All;

sec. 28, E½E½;

sec. 33, E½NE¼;

sec. 34, NW¼. T. 17 S., R. 25 E.,

sec. 03, Lots 3, 4, S½NW¼, N½N½S½

.

Containing 1280.54 acres of surface and minerals in Eddy County, New Mexico.

The area described below is Federal reserved mineral estate underlying Department of Treasury (FLETC) lands. This notice closes the land to mining under the United States mining laws, subject to valid existing rights.

New Mexico Principal Meridian

T. 16 S., R. 25 E.,

sec. 33, SE¼;

sec. 34, SW¼;

sec. 35, S½S½.

T. 17 S., R. 25 E.,

sec. 04: Lots 1, 2, S½NE¼.

Containing 640.26 acres of mineral estate underlying FLETC private surface, in Eddy County New Mexico.

For a period of 90 days from the date of publication of this notice, all persons who wish to submit comments, suggestions, or objections in connection with the proposed withdrawal may present their views in writing to the New Mexico State Director, BLM, P.O. Box 27115, Santa Fe, NM 87502-6544.

Notice is hereby given that an opportunity for public meeting is afforded in connection with the proposed withdrawal. Public meeting requests must be submitted in writing to the New Mexico State Director, BLM, within 90 days from the date of publication of this notice.

For a period of 2 years from the date of publication of this notice in the Federal Register, the lands will be segregated as specified above unless the application is denied, canceled, or the land withdrawal is approved prior to that date. The temporary uses which may be permitted during the segregative period are licenses, permits, cooperative agreements, and discretionary land use authorizations of a temporary nature, but only with the approval of the authorized officer of the Bureau of Land Management.

The application will be processed in accordance with the regulations set forth in 43 CFR part 2300.

Dated: December 23, 2002.
Cathy Queen,
Acting Field Manager.

[FR Doc. 03-9378 Filed 4-16-03; 8:45 am]

BILLING CODE 4310-FB-P